DEPARTMENT OF ENERGY

Federal Energy Regulatory Commission

[Project No. 9886-035]

Valatie Falls Hydro Power, Inc.; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 9886-035.

c. Date Filed: November 28, 2025.

d. Applicant: Valatie Falls Hydro Power, Inc.

e. Name of Project: Valatie Falls Hydroelectric Project (Valatie Falls Project).

f. Location: The project is located on Kinderhook Creek, in the village of Valatie, town of Kinderhook in Columbia County, New York. This project does not occupy any federal land.

g. Filed Pursuant to: Federal Power Act 16 U.S.C. 791(a)-825(r).

h. Applicant Contact: Mr. John E. Doran, President, Valatie Falls Hydro Power, Inc., 7 Cotton Mill Lane, Valatie, NY 12184; phone at (855) 467-3751 or email at jdoran@pisoev.com.

i. FERC Contact: Jacob Harrell at (202) 502-7313, or Jacob.Harrell@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: on or before 5:00 p.m. Eastern Time on January 27, 2026.

The Commission strongly encourages electronic filing. Please file additional study requests and requests for cooperating agency status using the Commission's eFiling system at http://www.ferc.gov/docs-filing/efiling.asp. For assistance, please contact FERC Online Support at FERCOnlineSupport@ferc.gov, (866) 203-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Valatie Falls Hydroelectric Project (P-9886-035).

m. The application is not ready for environmental analysis at this time.

n. The Valatie Falls Project includes: (1) a concrete dam of an approximate height of 6 feet and length of 310 feet consisting of two sections separated by a small island (Seven Pine Island) and with a crest elevation of 228.3 feet above mean sea level (msl); (2) wooden flashboards of 2 feet on both dam sections; (3) a 5-acre reservoir with a gross storage capacity of approximately 20 acre-feet at the normal surface elevation of 230.3 feet msl; (4) a 34-foot-long by 14-foot-wide concrete intake structure with a 15-foot-long by 12-foot-wide trashrack set at an angle of 45 degrees to the flow; (5) a 6-foot-diameter steel penstock; (6) a 27-foot by 16-foot powerhouse containing a single Semi-Kaplan turbine unit with an installed capacity of 365.5 kilowatts; (7) a tailrace channel; (8) a bypassed reach channel split into an approximately 700-foot-long south channel and 800-foot-long north channel; (9) an approximately 50-foot-long transmission line; and (10) appurtenant facilities.

Valatie Falls Hydro Power, Inc. proposes to continue operating the project in a run-of-river mode with a continuous minimum flow of 18 cubic feet per second (cfs) provided into the channel on the north side of Seven Pine Island and 8 cfs provided into the channel on the south side of Seven Pine Island. An existing downstream fish bypass system would continue to be operated seasonally from March 15 through May 15 and from September 1 through December 15 passing an additional 15 cfs downstream through a 1-foot-diameter pipe into the sluiceway located adjacent to the south spillway. The Valatie Falls Project has an average annual generation of approximately 500,000 kilowatt-hours.

o. A copy of the application is available for review on the Commission's website at https://www.ferc.gov using the “eLibrary” link. Enter the docket number, excluding the last three digits, in the docket number field to access the document (P-9886). For assistance, contact FERC at FERCOnlineSupport@ferc.gov, or call toll free, (886) 208-3676 or TTY (202) 502-8659.

You may also register online at https://ferconline.ferc.gov/FERCOnline.aspx to be notified via email of new filings and issuances related to this or other pending projects. For assistance, contact FERC Online Support.

p. For public inquiries and assistance with making filings such as interventions, comments, or requests for rehearing, contact the Office of Public Participation at (202) 502-6595 or OPP@ferc.gov.

q. Procedural schedule and final amendments: The application will be processed according to the following preliminary schedule. Revisions to the schedule will be made as appropriate.

Milestone | Target date
Issue Deficiency Letter and Request Additional Information | February 2026.
Issue Acceptance Letter and Notice | June 2026.
Issue Scoping Notice | June 2026.
Scoping Comments due | July 2026.
Issue Notice of Ready for Environmental Analysis | September 2026.

r. Final amendments to the application must be filed with the Commission no later than 30 day s from the issuance date of the notice of ready for environmental analysis.

(Authority: 18 CFR 2.1)

Dated: December 12, 2025.
Debbie-Anne A. Reese,
Secretary.

[FR Doc. 2025-23217 Filed 12-17-25; 8:45 am]

BILLING CODE 6717-01-P